DEPARTMENT OF TRANSPORTATION

Federal Aviation Administration

User Input to the Aviation Weather Technology Transfer (AWTT) Board

AGENCY: Federal Aviation Administration (FAA), Department of Transportation (DOT).

ACTION:

Notice of public meeting.

SUMMARY: The FAA will hold an informal public meeting to seek input from a specific, focused group of aviation weather users. Details: June 16, 2004; 1575 “I” Street, NW., Washington, DC 20005; 9 a.m. to 4 p.m. The objective of this meeting is to provide an opportunity for a specific group of aviation weather users to provide input on FAA's plans for implementing new weather products.

DATES: The meeting will be held at 1575 “I” Street, NW., Washington, DC. 20005; Times: 9 a.m. to 4 p.m. on June 16, 2004.

FOR FURTHER INFORMATION CONTACT: Debi Bacon, Aerospace Weather Policy Division, ARS-100, Federal Aviation Administration, 800 Independence Ave., SW., Washington, DC 20591; telephone number (202) 385-7705; Fax: (202) 385-7701; email: debi.bacon@faa.gov.

SUPPLEMENTARY INFORMATION:

History

In 1999, the Federal Aviation administration (FAA) established an Aviation Weather Technology Transfer (AWTT) Board to manage the orderly transfer of weather capabilities and products from research and development (R&D) into operational use. The board is composed of mid-level managers from FAA and National Weather Service (NWS) and meet semi-annually or as needed. The Board is responsible to determine the readiness of weather R&D products for experimental use, full operational use for meteorologists or full operational use for end users. The board's determinations are based upon criteria such as users needs, costs and benefits, risks, product readiness and budget.

FAA has the sole responsibility and authority to make decisions intended to provide a safe, secure, and efficient U.S. national airspace system. However, it behooves FAA to make decisions in a vacuum. Therefore, FAA seeks input from the user community at quarterly meetings before decisions are finalized. Two such meetings were held in January and April 2004.

At the quarterly meetings, industry users are invited to provide input for development of concepts of use (ConUse) for individual aviation weather products approaching specific AWTT board decision points. Meetings are announced in the Federal Register and open to all interested parties.

This meeting is an additional user input meeting intended to acquire input for an aviation weather roadmap from three specific user groups: Airline pilots, airline dispatchers and weather information providers to commercial airline users. All interested users in other categories may attend and observe, however only certain, focus information will be sought from the three specific groups.

Meeting Procedures

(a) The meeting will be informal in nature and will be conducted by representatives of the FAA Headquarters.

(b) The meeting will be open to all persons on a space-available basis. Every effort was made to provide a meeting site with sufficient seating capacity for the expected participation. There will be neither admission fee nor other charge to attend and participate.

(c) Attendees must present themselves to the security guard at the Society for Association Executives, 1575 “I” Street, NW., Washington, DC 20005. Attendees will be directed to the FAA offices on the 8th floor where they will adhere to security instructions (including presenting of picture identification cards) and directed to the 9th floor conference room.

(d) FAA personnel will lead a session intended to refine an aviation weather roadmap. Comments from the specific user groups will be used to complete and/or verify a decision-making matrix regarding specific types of weather phenomena. Comments/Feedback on the proposed documents will be captured through discussion between FAA personnel and those focused users attending the meeting.

(e) FAA will not take any action items from this meeting nor make any commitments to accept specific user suggestions. The meeting will not be formally recorded. However, informal tape recordings may be made of the presentations to ensure that each respondent's comments are noted accurately.

(f) An official verbatim transcript or minutes of the informal meeting will not be made. However, a list of the attendees and a completed matrices will be produced. Any person attending may receive a copy of the written information upon request to the information contact, above.

(g) Every reasonable effort will be made to hear each person's feedback consistent with a reasonable closing time for the meeting. Written feedback is also solicited and may be submitted to FAA personnel for the period June 17-30, 2004.

Agenda

(a) Opening Remarks and Discussion of Meeting Procedures.

(b) Review of AWTT user input process.

(c) Focused Input Session.

(d) Closing Comments.

* * * * *

Issued in Washington, DC on May 26, 2004.
Richard J. Heuwinkel,
Acting Staff Director, Office of Aerospace Weather Policy and Standards.

[FR Doc. 04-12325 Filed 5-28-04; 8:45 am]

BILLING CODE 4910-13-M